DEPARTMENT OF EDUCATION

Privacy Act of 1974; System of Records—National Longitudinal Transitions Study—2012

AGENCY: Institute of Education Sciences, Department of Education.

ACTION: Notice of a new system of records.

SUMMARY: In accordance with the Privacy Act of 1974, as amended (Privacy Act), the Department of Education (Department) publishes this notice of a new system of records entitled “National Longitudinal Transitions Study—2012” (18-13-27). The National Center for Education Evaluation and Regional Assistance at the Department's Institute of Education Sciences (IES) commissioned this study as part of the congressionally mandated national assessment of Individuals with Disability Education Act (IDEA). It will be conducted under a contract that IES awarded in September 2010.

The central research questions that the study will address are: How do the characteristics, courses of study, receipt of services and accommodations, school experiences, and key outcomes for transition-age students with an Individualized Education Plan (IEP) differ from transition-age students with a plan that provides accommodations under Section 504 of the Rehabilitation Act of 1973 (Section 504 Plan) and from transition-age students without a Section 504 Plan or an IEP? How have these facets changed over time for students with IEPs?

The system will contain records from 500 school districts on approximately 15,000 students and their parents, 15,000 teachers, and 2,000 principals.

DATES: The Department seeks comment on the new system of records described in this notice, in accordance with the requirements of the Privacy Act. We must receive your comments on the proposed routine uses for the system of records referenced in this notice on or before May 29, 2012.

The Department filed a report describing the new system of records covered by this notice with the Chair of the Senate Committee on Homeland Security and Governmental Affairs, the Chair of the House Committee on Oversight and Government Reform, and the Administrator of the Office of Information and Regulatory Affairs, Office of Management and Budget (OMB) on April 24, 2012. This system of records will become effective at the later date of—(1) The expiration of the 40-day period for OMB review on June 4, 2012, unless OMB waives 10 days of the 40-day review period for compelling reasons shown by the Department, or (2) May 29, 2012, unless the system of records needs to be changed as a result of public comment or OMB review.

ADDRESSES: Address all comments about this new system of records to Dr. Audrey Pendleton, Associate Commissioner, Evaluation Division, National Center for Education Evaluation and Regional Assistance, Institute of Education Sciences, U.S. Department of Education, 555 New Jersey Avenue NW., room 502D, Washington, DC 20208-0001. Telephone: (202) 208-7078. If you prefer to send comments through the Internet, use the following address: comments@ed.gov.

You must include the term “National Longitudinal Transitions Study—2012” in the subject line of the electronic message.

During and after the comment period, you may inspect all comments about this notice at the U.S. Department of Education in room 502D, 555 New Jersey Avenue NW., Washington, DC, between the hours of 8:00 a.m. and 4:30 p.m., Eastern time, Monday through Friday of each week except Federal holidays.

Assistance to Individuals With Disabilities in Reviewing the Rulemaking Record

On request we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Dr. Audrey Pendleton. Telephone: (202) 208-7078. If you use a telecommunications device for the deaf (TDD), call the Federal Relay Service (FRS), toll free, at 1-800-877-8339.

Individuals with disabilities can obtain this document in an accessible format (e.g., braille, large print, audiotape, or compact disc) on request to the contact person listed in this section.

SUPPLEMENTARY INFORMATION:

Introduction

The Privacy Act (5 U.S.C. 552a) requires the Department to publish in the Federal Register this notice of a new system of records maintained by the Department. The Department's regulations implementing the Privacy Act are contained in part 5b of title 34 of the Code of Federal Regulations (CFR).

The Privacy Act applies to any record about an individual that is maintained in a system of records from which individually identifying information is retrieved by a unique identifier associated with each individual, such as a name or Social Security number. The information about each individual is called a “record,” and the system, whether manual or computer-based, is called a “system of records.”

The Privacy Act requires each agency to publish a notice of a system of records in the Federal Register and to prepare and send a report to OMB whenever the agency publishes a new system of records or makes a significant change to an established system of records. Each agency is also required to send copies of the report to the Chair of the Senate Committee on Homeland Security and Governmental Affairs and the Chair of the House Committee on Oversight and Government Reform. These reports are included to permit an evaluation of the probable effect of the proposal on the privacy rights of individuals.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 24, 2012.
John Q. Easton,
Director, Institute of Education Sciences.

For the reasons discussed in the preamble, the Director of the Institute of Education Sciences, U.S. Department of Education, publishes a notice of a new system of records to read as follows:

SYSTEM NUMBER:

18-13-27.

SYSTEM NAME:

National Longitudinal Transitions Study—2012.

SECURITY CLASSIFICATION:

None.

SYSTEM LOCATIONS:

(1) Evaluation Division, National Center for Education Evaluation and Regional Assistance, Institute of Education Sciences (IES), U.S. Department of Education, 555 New Jersey Avenue NW., room 502D, Washington, DC 20208-0001.

(2) Mathematica Policy Research, Inc., 600 Alexander Park, Princeton, NJ 08540-6346 (contractor).

(3) Decision Information Resources, Inc., 2600 Southwest Freeway, Suite 900, Houston, TX 77098-4610 (subcontractor).

CATEGORIES OF INDIVIDUALS COVERED BY THE SYSTEM:

The system will contain records from 500 districts on approximately 15,000 students and their parents, 15,000 teachers, and 2,000 principals.

CATEGORIES OF RECORDS IN THE SYSTEM:

The system of records includes individually identifying information about the students who agree to participate. This information includes name, birth date, and contact information; demographic information such as race, ethnicity, gender, age, and educational background; information on accommodations and services received; information on attendance and disciplinary incidences; information on employment history and postsecondary institution attended; and scores on reading and mathematics achievement tests. The system of records also includes students' school transcripts. It is also our intention to include in this system of records students' Social Security numbers (SSNs). In order to ensure that the information on the students' employment and earnings can be obtained, the students' SSNs are needed because other methods (i.e., self-reporting) have proven to be infeasible. This method will place a low burden on students and be of low cost to the Federal government. The system of records will also include individually identifying information about the parents and teachers of participating students, including name and contact information; demographic information such as race and ethnicity; and teaching experience. The system of records will also include the name and contact information of principals of participating students and information that they provide about the school's programs, policies, and environment.

AUTHORITY FOR MAINTENANCE OF THE SYSTEM:

The study is authorized under Part D, Subpart 2, Section 664 of the Individuals with Disability Education Act (IDEA), 20 U.S.C. 1464.

PURPOSE(S):

The information contained in the records maintained in this system will be used to describe the characteristics of, receipt of services by, and outcomes of transition-age students. The study will address the following research questions:

Describe Transition-Age Students With an Individualized Education Plan (IEP)

What are the personal, family, and school characteristics of this group?

What are their courses of study, services and accommodations received to support learning, and preparation for transition? What barriers and challenges do they encounter?

What are the key academic, social, and economic outcomes in school and after leaving school for youth with disabilities?

How do services received, courses of study, barriers, and outcomes vary for subgroups defined by the nature of the student's disability, age, sex, race/ethnicity, or characteristics of the student's school or community?

How do academic, social, and economic outcomes for students with disabilities vary by their course of study and receipt of services and accommodations, accounting for preexisting youth characteristics?

Compare Current Transition-Age Students With an IEP to Their Peers in Prior Cohorts

How do the receipt of services and accommodations and the outcomes of the current cohort of special education students differ from those of previous cohorts of special education students?

Compare Transition-Age Students With an IEP to Their Peers Who Do Not Have an IEP

What are the characteristics, school and transition experiences, and postsecondary outcomes of students with a plan that provides accommodations under Section 504 of the Rehabilitation Act of 1973 (Section 504 Plan)?

How do characteristics, courses of study, receipt of services and accommodations, and key outcomes for transition-age students with an IEP differ from transition-age students with a Section 504 Plan and from transition-age students with no Section 504 Plan and no IEP?

ROUTINE USES OF RECORDS MAINTAINED IN THE SYSTEM, INCLUDING CATEGORIES OF USERS AND THE PURPOSES OF SUCH USES:

The Department of Education (Department) may disclose information contained in a record in this system of records under the routine uses listed in this system of records without the consent of the individual if the disclosure is compatible with the purposes for which the record was collected. These disclosures may be made on a case-by-case basis or, if the Department has complied with the computer matching requirements of the Privacy Act of 1974, as amended (Privacy Act), under a computer matching agreement. Any disclosure of individually identifiable information from a record in this system must also comply with the requirements of section 183 of the Education Sciences Reform Act of 2002 (ESRA) (20 U.S.C. 9573) providing for confidentiality standards that apply to all collections, reporting, and publication of data by IES.

(1) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(2) Federal Agency Disclosure. The Department may disclose records from this system of records to another Federal agency for the purposes of allowing that agency to provide assistance to the Department with the evaluation of a federally supported education program. Under the requirements of the Family Educational Rights and Privacy Act (FERPA), 20 U.S.C. 1232g and 34 CFR part 99, the Department will enter into an interagency agreement with the other Federal agency designating that agency as the Department's authorized representative before disclosing any personally identifiable information from any students' education records to that Federal agency. Under the terms of such an interagency agreement, the Federal agency will not be permitted to redisclose any personally identifiable information obtained from students' education records, and will be required to destroy any personally identifiable information from students' education records when no longer needed for the purposes of the evaluation as well as to maintain safeguards to protect the confidentiality of any personally identifiable information disclosed.

DISCLOSURE TO CONSUMER REPORTING AGENCIES:

Not applicable to this system notice.

POLICIES AND PRACTICES FOR STORING, RETRIEVING, ACCESSING, RETAINING, AND DISPOSING OF RECORDS IN THE SYSTEM:

STORAGE:

The Department maintains records on CD-ROM, and the contractor (Mathematica Policy Research, Inc.) and sub-contractor (Decision Information Resources, Inc.) maintain data for this system on computers and in hard copy.

RETRIEVABILITY:

Records in this system are indexed and retrieved by a number assigned to each individual that is cross-referenced by the individual's name on a separate list.

SAFEGUARDS:

All physical access to the Department's site and to the site of the Department's contractor and subcontractor, where this system of records is maintained, is controlled and monitored by security personnel. The computer system employed by the Department offers a high degree of resistance to tampering and circumvention. This security system limits data access to Department and contract staff on a need-to-know basis, and controls individual users' ability to access and alter records within the system. The contractor and subcontractor will establish a similar set of procedures at its site to ensure confidentiality of data. The contractor's and subcontractor's systems are required to ensure that information identifying individuals is in files physically separated from other research data. The contractor and subcontractor will maintain security of the complete set of all master data files and documentation. Access to individually identifying data will be strictly controlled. All data will be kept in locked file cabinets during nonworking hours, and work on hardcopy data will take place in a single room, except for data entry. Physical security of electronic data will also be maintained. Security features that protect project data include: password-protected accounts that authorize users to use the contractor's system but to access only specific network directories and network software; user rights and directory and file attributes that limit those who can use particular directories and files and determine how they can use them; and additional security features that the network administrators will establish for projects as needed. The contractor's and subcontractor's employees who “maintain” (collect, maintain, use, or disseminate) data in this system shall comply with the requirements of the confidentiality standards in section 183 of the ESRA (20 U.S.C. 9573).

RETENTION AND DISPOSAL:

Records are maintained and disposed of in accordance with the Department's Records Disposition Schedules (ED/RDS, Part 3, Item 2b and Part 3, Item 5a).

SYSTEM MANAGER AND ADDRESS:

Associate Commissioner, Evaluation Division, National Center for Education Evaluation and Regional Assistance, Institute of Education Sciences, U.S. Department of Education, 555 New Jersey Avenue NW., Room 502D, Washington, DC 20208-0001.

NOTIFICATION PROCEDURE:

If you wish to determine whether a record exists regarding you in the system of records, contact the systems manager. Your request must meet the requirements of regulations at 34 CFR 5b.5, including proof of identity.

RECORD ACCESS PROCEDURE:

If you wish to gain access to your record in the system of records, contact the system manager. Your request must meet the requirements of regulations at 34 CFR 5b.5, including proof of identity.

CONTESTING RECORD PROCEDURE:

If you wish to contest the content of a record regarding you in the system of records, contact the system manager. Your request must meet the requirements of the regulations at 34 CFR 5b.7, including proof of identity.

RECORD SOURCE CATEGORIES:

This system contains records on students, their parents, teachers, and principals participating in the National Longitudinal Transitions Study 2012. Data will be obtained through student records maintained by the school districts, assessments administered to students, and surveys of students, their parents, teachers, and principals. Information on principals will be obtained from publicly available information and information that they submit in response to surveys about their schools' programs, policies, and environment

EXEMPTIONS CLAIMED FOR THE SYSTEM:

None.

[FR Doc. 2012-10237 Filed 4-26-12; 8:45 am]

BILLING CODE 4000-01-P